DEPARTMENT OF AGRICULTURE

Natural Resources Conservation Service

Rescinding the Notice of Intent To Prepare an Environmental Impact Statement for the GreenThumb Gardens Water Supply Project Watershed Plan, New York, NY for Bronx, Kings, New York, Queens, and Richmond Counties

AGENCY: Natural Resources Conservation Service (NRCS), United States Department of Agriculture (USDA).

ACTION: Notice; rescission.

SUMMARY: NRCS, in cooperation with the New York City (NYC) Parks and Recreation Department GreenThumb Network, is issuing this notice to advise Federal, State and local government agencies and the public that USDA NRCS is rescinding the Notice of Intent (NOI) to prepare an Environmental Impact Statement (EIS) for the GreenThumb Gardens Water Supply Project Watershed Plan which was published in the Federal Register on April 24, 2024. NRCS conducted an Environmental Evaluation (EE) and determined that the action has no reasonably foreseeable significant effect, and the action is identified within scope of a Categorical Exclusion (CE). NRCS is rescinding the NOI because these findings will satisfy the NEPA requirements for this project and an EIS is no longer necessary.

DATES: The NOI to prepare an environmental impact statement (EIS) published in the Federal Register on April 24, 2024 (FR Doc. 2024-08725), is rescinded as of August 13, 2025.

FOR FURTHER INFORMATION CONTACT: Anthony Capraro, USDA NRCS-NY Assistant State Conservationist for Field Operations—Southeast Area, telephone: (607) 865-7090, ext. 283; email: anthony.capraro@usda.gov.

Individuals who require alternative means for communication should contact the U.S. Department of Agriculture (USDA) Target Center at (202) 720-2600 (voice and text telephone (TTY)) or dial 711 for Telecommunications Relay service (both voice and text telephone users can initiate this call from any telephone).

SUPPLEMENTARY INFORMATION: NRCS, in cooperation with the NYC Parks and Recreation Department GreenThumb Network, is issuing this notice to advise the public that USDA NRCS will not be preparing an EIS for the GreenThumb Gardens Water Supply Project watershed plan located within the Five Borough Watershed in New York City, New York. NRCS New York State Office issued the NOI to prepare an EIS in the Federal Register on April 24, 2024, at 89 FR 31130.

The primary purpose of the watershed plan is to supply dependable and accessible water to the existing GreenThumb Community Gardens that produce food. Watershed planning is authorized under the Watershed Protection and Flood Prevention Act of 1954 (Pub. L. 83-566), as amended, and the Flood Control Act of 1944 (Pub. L. 78-534). The sponsoring local organization is the NYC Parks and Recreation Department GreenThumb Network, which supports the creation and maintenance of volunteer led community gardens within the NYC Parks and Recreation Department jurisdiction.

The GreenThumb Gardens Water Supply Project is essential for the establishment of a secure and reliable on-site agricultural water supply to address deficiencies in the existing water delivery systems to these food producing gardens. Improving on-site water infrastructure within the existing community gardens would strengthen the local food system, improve efficiency, contribute to the conservation and enhancement of natural resources, and lower barriers to food production. This action would implement water conservation activities on existing agricultural lands and would address solutions to insufficient water supply and quality for the community gardens. Based on further review of the project, an EE was conducted that indicates the action has no reasonably foreseeable significant effect, and the proposed action is within scope of CE found at 7 CFR 1b.4 (d)(23)(USDA-23d-NRCS): “Implementing water conservation activities on existing agricultural lands, such as minor irrigation land leveling, irrigation water conveyance (pipelines), irrigation water control structures, and various management practices.”

Any public comment received from the original NOI and scoping period will be considered during Watershed Plan development. Questions concerning this notice of rescission should be directed to USDA NRCS through the contact provided above.

Blake Glover,
New York State Conservationist, Natural Resources Conservation Service.

[FR Doc. 2025-15347 Filed 8-12-25; 8:45 am]

BILLING CODE 3410-16-P